ENVIRONMENTAL PROTECTION AGENCY

[FRL-8207-6]

Science Advisory Board Staff Office; Notification of Public Meetings of the Science Advisory Board Radiation Advisory Committee (RAC)

AGENCY: Environmental Protection Agency (EPA).

ACTION: Notice.

SUMMARY: The EPA Science Advisory Board (SAB) Staff Office announces two public meetings of the SAB Radiation Advisory Committee (RAC) to conduct an advisory on the Environmental Protection Agency's (EPA) Office of Radiation and Indoor Air (ORIA) draft White Paper: Modifying EPA Radiation Risk Models Based on BEIR VII and other committee business.

DATES: The SAB Radiation Advisory Committee (RAC) will hold a public teleconference on Wednesday, September 6, 2006 from 2 p.m. to 4 p.m. and a public face-to-face meeting on September 26 through September 28, 2006. A public face-to face meeting of the SAB Radiation Advisory Committee (RAC) will be held on September 28, 2006 following completion of the advisory on the draft White Paper, where the RAC will be briefed on ORIA activities and will plan upcoming meetings of the SAB's RAC. The final agendas for these public meetings will be posted on the SAB's Web site at http://www.epa.gov/sab.

ADDRESSES: The public teleconference meeting of September 6, 2006 will take place via telephone only. The September 26—28, 2006 meeting will take place at the Science Advisory Board's Conference Room Suite #3700, located at 1025 F Street, NW., Washington, DC 20004.

FOR FURTHER INFORMATION CONTACT: Members of the public who wish to obtain the call-in number and access code for the public teleconference meeting, or further information concerning the face-to-face public meeting may contact Dr. K. Jack Kooyoomjian, Designated Federal Officer (DFO), by mail at the EPA SAB Staff Office (1400F), U.S. EPA, 1200 Pennsylvania Avenue, NW., Washington, DC 20460; by telephone at (202) 343-9984; by fax at (202) 233-0643; or by e-mail at: kooyoomjian.jack@epa.gov. General information concerning the SAB can be found on the SAB Web site at: http://www.epa.gov/sab.

Technical Contact: For questions and information concerning the Agency's draft document being reviewed, contact Dr. Mary E. Clark, U.S. EPA, ORIA by telephone at (202) 343-9348, fax at (202) 243-2395, or e-mail at clark.marye@epa.gov.

SUPPLEMENTARY INFORMATION: Background: The EPA's Office of Radiation and Indoor Air (ORIA) requested the SAB to provide advice on a draft White Paper: Modifying EPA Radiation Risk Models Based on BEIR VII, dated August 2006. In 1994, EPA published a report, referred to as the “Blue Book,” which lays out EPA's methodology for quantitatively estimating radiogenic cancer risks: http://epa.gov/radiation/docs/assessment/402-r-93-076.pdf. A follow-on report made minor adjustments to the previous estimates and presented a partial analysis of the uncertainties in the numerical estimates: http://epa.gov/radiation/docs/assessment/402-r-99-003.pdf. Finally, the Agency published Federal Guidance Report 13: http://epa.gov/radiation/docs/federal/402-r-99-001.pdf which utilized the previously published cancer risk models, in conjunction with International Commission on Radiological Protection (ICRP) dosimetric models and U.S. usage patterns, to obtain cancer risk estimates for over 800 radionuclides, and for several exposure pathways updated at http://epa.gov/radiation/federal/techdocs.htm#report13.

The National Research Council (NRC 2006) recently released Health Risks from Exposure to Low levels of Ionizing Radiation BEIR VII Phase 2 which primarily addresses cancer and genetic risks from low doses of low-LET radiation (BEIR VII) (NRC 2006 http://newton.nap.edu/catalog/11340.html#toc). In the EPA draft White Paper: Modifying EPA Radiation Risk Models Based on BEIR VII, the Agency proposes changes to EPA's methodology for estimating radiogenic cancers, based on the contents of BEIR VII. The Agency expects to adopt the models and methodology recommended in BEIR VII, but believes that certain modifications and expansions are desirable or necessary for EPA's purposes. EPA's ORIA staff is seeking this Advisory from the Agency's SAB Radiation Advisory Committee (RAC) to obtain advice on the application of BEIR VII and on issues relating to these modifications and expansions.

Pursuant to the Federal Advisory Committee Act (FACA), Public Law 92-463, the SAB Staff Office hereby gives notice of one public teleconference meeting and one face-to-face meeting of the SAB Radiation Advisory Committee (RAC). The SAB was established by 42 U.S.C. 4365 to provide independent scientific and technical advice, consultation, and recommendations to the EPA Administrator on the technical basis for Agency positions and regulations. The RAC will comply with the provisions of FACA and all appropriate SAB procedural policies.

The purpose of the teleconference is to: introduce the subject; determine if the review and background materials provided are adequate to respond to the charge questions directed to the SAB's RAC; receive public statements; and to discuss assignments to the RAC members in preparation for developing its draft advisory. The purpose of the meeting is to: receive presentations by the ORIA Staff; deliberate on the charge questions; receive public statements; and draft an advisory in response to the charge questions pertaining to the draft White Paper. Additionally, the RAC will receive briefings on ORIA activities, and will discuss plans for future activities.

Availability of Meeting Materials: A roster and biosketches of the RAC members, the meeting agenda, and the charge to the SAB's RAC will be posted on the SAB Web site at (http://www.epa.gov/sab) prior to each meeting. Additional background information on this review include the draft White Paper (available at: http://epa.gov/radiation/news/recentadditions.htm) and background materials, such as the BEIR VII document (available at http://newton.nap.edu/catalog/11340.html#toc). The RAC was initially briefed on the BEIR VII draft White Paper topic at its planning meeting of December 21, 2005 which was held at the National Air and Environmental Radiation Laboratory (NAERL) Laboratory in Montgomery, Alabama (see notification of a public teleconference and meeting 70 Fed. Reg. 69550, November 16, 2005). These notices, the charge to the RAC, and other supplemental information may be found at the SAB's Web site (http://www.sab.gov/sab).

Persons who wish to obtain additional background materials on the draft White Paper may find them at the following Web site: http://epa.gov/radiation/news/recentadditions.htm. Copies of the materials provided to the RAC, including the Agency's draft document entitled “White Paper: Modifying EPA Radiation Risk Models Based on BEIR VII,” dated August 2006, as well as briefing materials and other background materials pertinent to the activities announced in this notice may be requested from Dr. Mary E. Clark of the U.S. EPA, ORIA by telephone at (202) 343-9348, fax at (202) 243-2395, or e-mail at clark.marye@epa.gov.

Procedures for Providing Public Input: Interested members of the public may submit relevant written or oral information for the SAB Panel to consider during the advisory process. Oral Statements: In general, individuals or groups requesting an oral presentation at a public teleconference will be limited to three minutes per speaker with no more than a total of fifteen minutes for all speakers. For face-to-face meetings, in general, individuals or groups requesting an oral presentation at a public face-to-face meeting will be limited to five minutes per speaker. Interested parties should contact the DFO, contact information provided above, in writing via e-mail seven days prior to the teleconference meeting date. For the September 6, 2006 teleconference meeting, the deadline is Wednesday, August 30, 2006. For the September 26 to 28, 2006 meeting, the deadline is Tuesday, September 19, 2006 to be placed on the public speaker list. Written Statements: Written statements should be received in the SAB Staff Office seven days prior to the teleconference meeting. For the September 6, 2006 teleconference meeting, the deadline is Wednesday, August 30, 2006; for the September 26 to 28, 2006 meeting the deadline is Tuesday, September 19, 2006, so that the information may be made available to the SAB's RAC for their consideration. Written statements should be supplied to the DFO in the following formats: one hard copy with original signature, and one electronic copy via e-mail to kooyoomjian.jack@epa.gov (acceptable file format: Adobe Acrobat, WordPerfect, Word, or Rich Text files in IBM-PC/Windows 98/2000/XP format).

Meeting Accommodations: For information on access or services for individuals with disabilities, please contact the DFO, contact information provided above. To request accommodation of a disability, please contact the DFO, preferably at least 10 days prior to the meeting, to give EPA as much time as possible to process your request.

Dated: July 31, 2006.
Anthony F. Maciorowski,
Associate Director for Science, EPA Science Advisory Board Staff Office.

[FR Doc. E6-12957 Filed 8-8-06; 8:45 am]

BILLING CODE 6560-50-P